DEPARTMENT OF LABOR

Employment and Training Administration

Federal-State Unemployment Compensation Program: Availability of Benefit Accuracy Measurement Program Results

AGENCY: Employment and Training Administration, Labor.

ACTION: Notice of availability of the Unemployment Insurance (UI) Benefit Accuracy Measurement (BAM) program data for calendar year (CY) 1999.

SUMMARY: UI BAM program data for CY 1999 are published as part of the UI PERFORMS Annual Report, which also includes data from the Benefit Timeliness and Quality and Tax Performance System programs. UI PERFORMS is the Department of Labor's management system for promoting continuous improvement in UI performance.

DATES: The CY 1999 UI PERFORMS Annual Report will be available by August 31, 2000.

ADDRESSES: The CY 1999 UI PERFORMS Annual Report, including State narratives, is posted on the Office of Workforce Security Internet site— http://workforcesecurity.doleta.gov. Printed versions of the report are available through the National Technical Information Service (NTIS)— http://www.ntis.gov. Orders through the NTIS may be placed by telephone (1-800-553-NTIS (6847) or 703-605-6000), fax (703-605-6900), e-mail (orders@ntis.fedworld.gov), or mail (NTIS, 5285 Port Royal Road, Springfield, Virginia 22161). The printed version will not include State narratives.

FOR FURTHER INFORMATION CONTACT: Andrew Spisak, Office of Workforce Security, Division of Performance Management, 202-219-5223, extension 157. (This is not a toll free number.) E-mail: aspisak@doleta.gov

SUPPLEMENTARY INFORMATION: Each State's Employment Security Agency selects weekly random samples of UI benefit payments. The BAM program staff collects information about these payments by contacting claimants, employers, and third parties to determine whether the correct amounts of UI benefits were paid in accordance with State law, policy, and procedure. The results of the payment audits are recorded in electronic databases in each State and in the Department of Labor's National Office in Washington, DC.

The Department of Labor publishes results from the investigations for the 52 jurisdictions participating in the UI BAM program. Five items are reported for each State: (1) The amount of UI benefits paid to the population of claimants; (2) the size of the BAM samples (number of completed cases); and (3) the percentages of proper payments, (4) overpayments, and (5) underpayments in the population estimated from the BAM investigations. Ninety-five percent confidence intervals are presented for each of the three percentages as measures of the precision of the estimates. States may provide narratives to comment on or to clarify the meaning of the data.

The CY 1999 UI PERFORMS Annual Report also includes background information and the data collection methodology for the BAM program. Graphs that display the distribution of overpayment rates for all States, national overpayment rates by year, and national cause and responsibility data for overpayments for the last five years are also provided.

Readers are strongly cautioned that it may be misleading to compare one State's BAM overpayment and underpayment rates with the rates of other States. No two States' written laws, regulations, and policies specifying eligibility conditions are identical. Differences among States in these conditions influence the potential for error. For example, States with stringent, complex provisions will tend to have higher overpayment rates than those with simpler, more straightforward provisions. No performance standards for UI benefit accuracy have been established.

States are not required to publish their BAM program data; however, persons wanting clarification or additional information concerning a specific State's report are encouraged to contact the individuals identified in the following list.

Signed at Washington, D.C., on 2000.
Grace A. Kilbane,
Administrator, Office of Workforce Security.

Unemployment Insurance Benefit Accuracy Measurement State Contacts

Alabama

Debbie C. Richbourg, Alabama Department of Industrial Relations, 649 Monroe Street, Room 321, Montgomery, AL 36131, (334) 242-8130, email: drichbourg@dir.state.al.us

Alaska

Karen Van Dusseldorp, Q.C. Data Analyst, Alaska Department of Labor, P.O. Box 21149, Juneau, AK 99802-1149, (907) 465-5946

Arizona

Karen Garding-Chavira, Department of Economic Security, Employment Security Administration, 1789 West Jefferson, Site Code 701B4, Phoenix, AZ 85005, (602) 542-3771

Arkansas

Fred Trowell, BAM Supervisor, Arkansas Employment Security Department, P.O. Box 2981, Little Rock, AR 72203-2981, (501) 682-3090

California

George Lolas, Chief, Quality Control Section, Employment Development Department, P.O. Box 826880, Sacramento, CA 94280-0001, (916) 654-9678, email: GLolas2@edd.ca.gov

Colorado

Kay Gilbert, BAM Supervisor, Colorado Division Employment & Training, UI Division, 1120 Lincoln St., Suite 1490, Denver, CO 80203, (303) 866-6557, email: kay.gilbert@state.co.us

Connecticut

Nancy Steffens, Director of Communication, Connecticut Department of Labor, 200 Folly Brook Boulevard, Wethersfield, CT 06109, (860) 263-6536, email: nancy.steffens@po.state.ct.us

Delaware

Thomas MacPherson, Director, Division of Unemployment Insurance, P.O. Box 9950, Wilmington, DE 19809-0950, (302) 761-8350, email: tmacpherson@state.de.us

District of Columbia

Roberta Bauer, Associate Director, Office of Compliance and Independent Monitoring, Department of Employment Services, 500 C Street, N.W., Room 511, Washington, DC 20001, (202) 724-7492, email: btolson@does.dcgov.org

Florida

Kenneth E. Holmes, UC Director, Division of Unemployment Compensation, 107 East Madison St., 103 Caldwell Building, Tallahassee, FL 32399-0206, (850) 921-3889

Georgia

Paul D. Crawford, Chief, Quality Assurance, Georgia Department of Labor, 148 International Blvd., N.E., Suite 822, Atlanta, GA 30305, (404) 656-7242, email: Paul.Crawford@dol.state.ga.us

Hawaii

Linda Uesato, UI Administrator, Department of Labor and Industrial Relations, 830 Punchbowl Street, Honolulu, HI 96813, (808) 586-9069

Idaho

Bob Davis, Benefit Payment Control Chief, Idaho Department of Employment, 317 Main Street, Boise, ID 83735, (208) 334-6305

Illinois

Joe Wojcik, Manager, Quality Assurance and Compliance Review, Illinois Department of Employment Security, 401 South State Street, Chicago, IL 60605, (312) 793-1175, email: www.jwojcik@ides.state.il.us

Indiana

Sandy Jessee, BAM Supervisor, Indiana Department of Workforce Development, 10 North Senate Avenue, Indianapolis, IN 46204, (317) 233-6676

Iowa

LeLoie Dutemple, Quality Control Supervisor, Iowa Workforce Development, Unemployment Insurance Services Division, 1000 East Grand Avenue, Des Moines, IA 50319-0209, (515) 281-8386, email: LeLoie.Dutemple@iwd.state.ia.us

Kansas

Vikki O. Muse, BAM/BPC Manager, Kansas Division of Employment Security, 401 SW Topeka Blvd., Topeka, KS 66603-3182, (785) 296-2018, email: vmuse@hr.state.ks.us

Kentucky

Ted Pilcher, Technical Services Branch, Division of Unemployment Insurance, 275 East Main Street, 2nd Floor East, Frankfort, KY 40621, (502) 564-5057, email: TedL.Pilcher@mail.state.ky.us

Louisiana,

Marianne Sullivan, Program Compliance Manager, Louisiana Department of Labor, P.O. Box 94094-9094, Baton Rouge, LA 70804, (225) 342-7103, email: msullivan@ldol.state.la.us

Maine

Rhonda Webber, Department of Labor, PO Box 2014, Lewiston, ME 04241-2014, (207) 753-2885, email: Rhonda.Webber@state.me.us

Maryland

Thomas S. Wendel, Executive Director, Office of Unemployment Insurance, Department of Labor, Licensing and Regulation, 1100 North Eutaw Street, Room 501, Baltimore, MD 21201, (410) 767-2444, email: twendel@dllr.state.md.us

Massachusetts

Rena Kottcamp, Assistant Director of Research, Division of Employment and Training, Charles F. Hurley Building, 19 Staniford Street, Boston, MA 02114-2589, (617) 626-6557, email: rkottkamp@detma.org

Michigan

Edward Updyke, Director, Office of Management Review, 7310 Woodward Avenue, 8th Floor East, Detroit, MI 48202, (313) 876-5908

or

Constance Luckett, Director, Quality Improvement and Assurance Section, 7310 Woodward Avenue, 8th Floor East, Detroit, MI 48202, (313) 876-6909

Minnesota

Chuck Hartfiel, Quality Control Unit, Minnesota Department of Economic Security, 390 North Robert Street, St. Paul, MN 55101, (651) 296-6520, email: Chuck.Hartfiel@ngwmail. des.state.mn.us

Mississippi

Gary Harthcock, BAM Supervisor, Quality Control Unit, Mississippi Employment Security Comm., P.O. Box 23088, Jackson, MS 39225-3088, (601) 961-7709

Missouri

Terry H. Malone, Acting Assistant Director, UI Operations, Missouri Division of Employment Security, P.O. Box 59, Jefferson City, MO 65104, (573) 751-3648, email: Tmalone@central.dolir.state.mo.us

Montana

Joanne Loughney-Finstad, Bureau Chief, Montana Department of Labor and Industry, Program Support Bureau, 1728, 1327 Lockey, Helena, MT 59624-1728, (406) 444-2747, email: jloughney@state.mt.us

or

Ken Stephens, BAM Supervisor, Montana Department of Labor and Industry, Benefit Accuracy Measurement 4-B, 1728, 1327 Lockey, Helena, MT 59624-1728, (406) 444-2679, email: kstephens@state.mt.us

Nebraska

Will Sheehan, UI Benefits Administrator, email: wsheehan@dol.state.ne.us

or

Don Gammill, UI Program Evaluation Administrator, email: dgammill@dol.state.ne.us

both at: P.O. Box 94600, Lincoln, NE 68509-4600, (402) 471-9000

Nevada

Fred Suwe, Deputy Administrator, State of Nevada, Department of Employment, Training and Rehabilitation, Employment Security Division, 500 East Third Street, Carson City, NV 89713, (775) 684-3913, email: suwe@,govmail.state.nv.us

New Hampshire

Carolyn Angle, Assistant to the Commissioner, New Hampshire Employment Security, 32 South Main Street, Concord, NH 03301, (603) 228-4073, email: cangle@nhes.state.nh.us

New Jersey

Michael P. Malloy, Director, Unemployment Insurance, Employment Security and Job Training, New Jersey Department of Labor, PO Box 058, Trenton, NJ 08625-0058, (609) 292-2460, email: MMalloy@dol.state.nj.us

New Mexico

Teresa Baca, BAM Supervisor, New Mexico Department of Labor, 401 Broadway N.E., P.O. Box 1928, Albuquerque, NM 87103, (505) 841-8499

New York

Lou Rosa, Quality Control Supervisor, New York State Department of Labor, State Office Campus, Building 12, Room 257, Albany, NY 12240, (518) 457-0284

North Carolina

W. Howard Phillips, Jr., Supervisor, UI Systems and Procedures, Employment Security Commission of North Carolina, P.O. Box 25903, Raleigh, NC 27611, (919) 733-4893

North Dakota

Bill Steckler, Job Service North Dakota, 1000 E. Divide Ave., Bismarck, ND 58506-5507, (701) 328-3355, email: bsteckle@state.nd.us

Ohio

William J. Anderson, Ohio Department of Job and Family Services, P.O. Box 1618, Columbus, OH 43216, (614) 466-2148, email: ANDERSON@obes.state.oh.us

Oklahoma

Terry W. McHale, BAM Supervisor, Oklahoma Employment Security Commission, 715 S. Service Road, Moore, OK 73160, (405) 793-7286

Oregon

James Mosley, Q.C. Supervisor, Oregon Employment Department, 875 Union Street N.E., Salem, OR 97311, (503) 947-1684

Pennsylvania

Pete Cope, Director, Bureau of Unemployment Compensation Benefits and Allowances, Department of Labor and Industry, Labor and Industry Building, Room 615, Seventh and Forster Streets, Harrisburg, PA 17121, (717) 787-3547

Puerto Rico

Nancy M. Guzmán, UI Director, PR Department of Labor and Human Resources, 505 Muñoz Rivera Avenue, Hato Rey, PR 00918, (787) 754-5254

Rhode Island

Dr. Lee Arnold, Director, Department of Labor and Training, 101 Friendship Street, Providence, RI 02903, (401) 222-3732

South Carolina

Leland H. Teal, Director, UI Quality Performance Assurance, P.O. Box 8117, Columbia, SC 29202, (803) 737-3048

South Dakota

Dennis Angerhofer, Department of Labor, 420 South Roosevelt Street, P.O. Box 4730, Aberdeen, SD 57401-4730, (605) 626-2005 email: dennis.angerhofer@state.sd.us

Tennessee

Albert West, Tennessee Department of Employment Security, Unemployment Insurance Division, Davy Crockett Tower, 10th Floor, 500 James Robertson Parkway, Nashville, TN 37245-2700, (615) 741-3190 email: awest@mail. state.tn.us

Texas

Sheryl Wiese, Quality Control Supervisor, Texas Workforce Commission, 101 East 15th Street, Room 300, Austin, TX 78778, (512) 936-3628 email: Sheryl.Wiese@twc. state.tx.us

Utah

Jeff Bardin, Department of Employment Security, P.O. Box 778, Salt Lake City, UT 84110-0778, (801) 526-9781 email: wsadmpo.jbardin@state.ut.us

Vermont

Robert Herbst, BAM Supervisor, Vermont Department of Employment and Training, 200 Asa Bloomer Building, Rutland, VT 05701, (802) 786-8807

Virginia

F. W. Tucker, IV, Chief of Benefits, Field Operations Division, Virginia Employment Commission, P.O. Box 1358, Richmond, VA 23218-1358, (804) 786-3032 email: wtucker@vec.state.va.us

Washington

Annette Copeland, Acting Assistant Commissioner, Unemployment Insurance Division, Washington Employment Security Department, P.O. Box 906, Olympia, WA 98507-9046, (360) 902-9303

West Virginia

Dennis D. Redden, West Virginia Bureau of Employment Programs, 112 California Avenue, Charleston, WV 25305, (304) 558-2256 email: redded@wvnet.edu

Wisconsin

John Mand, QC Section Chief, Wisconsin Department of Workforce Development, UI Division, 6083 North Teutonia Avenue, P.O. Box 09999, Milwaukee, WI 53209, (414) 438-2055 email: mandj@dwd.state.wi.us

Wyoming

Ellen Schreiner, UI Administrator, Wyoming Department of Employment, P.O. Box 2760, Casper, WY 82602-2760, (307) 235-3253 email: eschre@state.wy.us

[FR Doc. 00-21739 Filed 8-24-00; 8:45 am]

BILLING CODE 4510-30-P